DEPARTMENT OF ENERGY

Federal Energy Regulatory Commission

[Docket No. CP15-18-000]

Eastern Shore Natural Gas Company; Notice of Onsite Environmental Review

On June 2, 2015 the Office of Energy Projects staff will be in Chester County, Pennsylvania to gather data related to the environmental analysis of the proposed White Oak Mainline Expansion Project. Staff will examine Eastern Shore Natural Gas Company's (ESNG) proposed pipeline route as well as several alternative routes filed by ESNG on November 21, 2014 and March 6, 2015. This will assist staff in completing its comparative evaluation of environmental impacts of the proposed project. Viewing of this area is anticipated to be from public access points and ESNG rights-of-way.

All interested parties planning to attend must provide their own transportation. Those attending should meet at the following location:

• June 2, 2015 at 10:00 a.m. at Crossan Park, located at 91 Parsons Road, Landenberg, Pennsylvania

Please use the FERC's free eSubscription service to keep track of all formal issuances and submittals in these dockets. This can reduce the amount of time you spend researching proceedings by automatically providing you with notification of these filings, document summaries, and direct links to the documents. To register for this service, go to www.ferc.gov/docs-filing/esubscription.asp.

Information about specific onsite environmental reviews is posted on the Commission's calendar at http://www.ferc.gov/EventCalendar/EventsList.aspx. For additional information, contact Office of External Affairs at (866) 208-FERC.

Dated: May 19, 2015.
Kimberly D. Bose,
Secretary.

[FR Doc. 2015-12614 Filed 5-22-15; 8:45 am]

BILLING CODE 6717-01-P